DEPARTMENT OF TRANSPORTATION

Federal Aviation Administration

Operating Limitations at Newark Liberty International Airport

AGENCY: Department of Transportation, Federal Aviation Administration (FAA).

ACTION: Notice of Order Extending and Modifying Scheduling Limits at Newark Liberty International Airport.

SUMMARY: The FAA is amending the June 10, 2025, order limiting the number of scheduled aircraft operations at Newark Liberty International Airport (EWR). The amendment extends the June 2025 order by approximately one year, or two IATA scheduling seasons, through October 24, 2026. Further, the amendment increases the operating limitation from 68 to 72 hourly operations.

DATES: This action is effective October 26, 2025.

ADDRESSES: If you wish to review the background documents or comments received in this proceeding, you may go to http://www.regulations.gov at any time and follow the online instructions for accessing the electronic docket. You may also go to the U.S. Department of Transportation's Docket Operations in Room W12-140 on the ground floor of the West Building at 1200 New Jersey Avenue SE, Washington, DC, between 9 a.m. and 5 p.m., Monday through Friday, except Federal holidays.

FOR FURTHER INFORMATION CONTACT: Al Meilus, Slot Administration and Capacity Analysis, FAA ATO System Operations Services, AJR-G5, Federal Aviation Administration, 800 Independence Avenue SW, Washington, DC 20591; telephone (202) 267-2822; email 7-awa-slotadmin@faa.gov.

SUPPLEMENTARY INFORMATION:

I. Introduction

On June 10, 2025, the FAA issued a final order limiting operations at EWR (the June 2025 order).¹ The June 2025 order is scheduled to expire on December 31, 2025. On August 12, 2025, the FAA published a notice that invited comments on its proposal to extend the June 2025 order.² For the reasons described in the notice, the staffing levels at EWR have not materially changed since the FAA hosted delay reduction meetings earlier this year from May 14, 2025, to May 16, 2025. The FAA finds that significant delay and operational disruption would occur at EWR if the June 2025 order were to expire as originally scheduled. As such, the FAA proposed to extend the June 2025 order for approximately one year.

¹ See Operating Limitations at Newark Liberty International Airport, Order Establishing Targeted Scheduling Limits, 90 FR 24482 (June 10, 2025).

² See Operating Limitations at Newark Liberty International Airport, Notice of Request for Comment. 90 FR 38881 (August 12, 2025).

Now, the FAA issues this one-year extension of the June 2025 order to address staffing shortfalls and provide additional time for controller onboarding and training. The FAA received written submissions on the proposal from ten commenters. The commenters include eight scheduled carriers, the airport operator, and an anonymous commenter.

II. Background

The U.S. Government has exclusive sovereignty over the airspace of the United States.³ Under this broad authority, Congress has delegated to the Administrator extensive and plenary authority to ensure the safety of aircraft and the efficient use of the nation's navigable airspace. In this regard, the Administrator is required to assign the use of navigable airspace by regulation or order under such terms, conditions and limitations as he may deem necessary to ensure its efficient use.⁴ The Administrator may modify or revoke an assignment when required in the public interest.⁵ Furthermore, in carrying out the Administrator's safety responsibilities under the statute, the Administrator must consider controlling the use of the navigable airspace and regulating civil operations in that airspace in the interest of the safety and efficiency of those operations.⁶

³ 49 U.S.C. 40103.

⁴ 49 U.S.C. 40103(b)(1), as previously codified in 49 U.S.C. App. 307(a). Title 49 was recodified by Public Law 103-222, 108 Stat. 745 (1994). The textual revisions were not intended to result in substantive changes to the law. The recodification stated that the words in 307(a) “under such terms, conditions, and limitations as he may deem” were omitted as surplus. H. Rpt. 103-180 (103d Cong., 1st Sess. 1993) at 262.

⁵ Id.

⁶ 49 U.S.C. 40101(d)(4).

The FAA's statutory authority to manage “the efficient use of airspace” encompasses its management of the nationwide system of air commerce and air traffic control. Ensuring the efficient use of the airspace means that the FAA must take all necessary steps to prevent extreme congestion at an airport from disrupting or adversely affecting the overall air traffic system for which the FAA is responsible. Further, delays at EWR frustrate the efficient operations of air carriers transporting passengers to and from this important region. The impacts of delays at EWR spread throughout the national airspace system (NAS), resulting in substantial economic loss and inconvenience for the traveling public, air carriers, shippers, and others.

EWR Level 2 Designation

On April 6, 2016, the FAA designated EWR as a Level 2 schedule-facilitated airport under the International Air Transportation Association (IATA) Worldwide Slot Guidelines (WSG), effective October 30, 2016.⁷

⁷ 81 FR 19861 (April 6, 2016).

The FAA does not allocate slots or impose minimum usage requirements at EWR. Level 2 schedule facilitation depends upon close and continuous discussions and voluntary agreement between carriers and the FAA to reduce congestion. At Level 2 airports, the FAA provides priority consideration for flights approved by the FAA and operated by the carrier in those approved times in the prior scheduling season when the FAA reviews proposed flights for facilitation in the next corresponding scheduling season. Only those flights that were actually operated as approved in a scheduling season generally receive priority for the next corresponding scheduling season. However, the FAA notes that the usual Level 2 processes include flexibility for the facilitator to prioritize planned flights that are canceled in advance or on the day of the scheduled operation due to operational impacts beyond the control of the carrier.

Although the FAA redesignated EWR from a Level 3 to Level 2 airport in 2016, the FAA has continuously monitored the airport's performance due to its prominence in the NAS and impact on the system overall. As such, the FAA implemented targeted scheduling limits at EWR in an effort to minimize delay and congestion. The current nominal targeted scheduling limit for EWR is 77 operations per hour.⁸ The FAA has implemented a number of mitigations to address delays at the airport due to staffing challenges and runway construction.

⁸ 89 FR 43501 (May 17, 2024).

Staffing-Related Relief at EWR

On March 27, 2023, the FAA announced a limited policy for prioritizing up to ten percent of a carrier's operations at EWR, if returned due to post-pandemic effects on ATC staffing at New York Terminal Radar Approach Control (TRACON) (N90), for purposes of establishing a carrier's operational baseline in the next corresponding season.⁹ The FAA determined that the interdependency and complexity of the airspace, number of flights into the New York City region, and N90 staffing shortfalls met the applicable waiver standard for the N90's Level 3 airports and justified an offer of relief for carriers at EWR. The FAA extended this relief through the close of the Summer 2025 Scheduling Season.¹⁰ This relief is part of a continuous effort to manage traffic at EWR safely and efficiently while staffing levels improve.

⁹ 88 FR 18032 (March 27, 2023).

¹⁰ 90 FR 12931 (March 19, 2024).

EWR Construction

On November 20, 2024, the FAA announced a limited, conditional policy for prioritizing returned operations at EWR due to a construction-related runway closure at EWR for purposes of establishing a carrier's operational baseline in the next corresponding scheduling seasons.¹¹ Runway 4L-22R was scheduled to be closed daily from April 15, 2025, through June 15, 2025.¹² Weekend closures of Runway 4L-22R were scheduled from March 1, 2025, to April 14, 2025, and will resume September 1, 2025, to December 31, 2025, from Friday at 11:00 p.m. through 5:00 a.m. on Sunday, Eastern Time. These two time periods are referred to as “the construction period” throughout.

¹¹ 89 FR 91544 (November 20, 2024).

¹² On June 2, 2025, Secretary of Transportation Sean Duffy, Acting FAA Administrator Christopher Rocheleau, and the Port Authority of New York and New Jersey announced that Runway 4L-22R reopened 13 days ahead of schedule, allowing regular runway operations to resume for Instrument Flight Rules operations once the FAA conducts the necessary check flights. See https://www.panynj.gov/port-authority/en/press-room/press-release-archives/2025-press-releases/governor-murphy-and-the-port-authority-of-new-york-and-new-jerse.html.

The FAA worked with carriers prior to issuing the policy to address the impact this runway closure has on scheduled operations for the Summer 2025 and Winter 2025/2026 scheduling seasons. The FAA requested that carriers reduce operations from April 15, 2025, through June 15, 2025, to no more than 35 arrivals per hour from 6:00 a.m. to 2:00 p.m., Eastern Time and no more than 31 arrivals per hour from 3:00 p.m. to the end of the day, Eastern Time. The FAA also requested that carriers reduce operations to no more than 35 departures per hour through 4:00 p.m., Eastern Time, and no more than 31 departures per hour from 5:00 p.m. through the end of the day, Eastern Time. The FAA stated that no new requested timings would be approved during the runway closure period.

Air Traffic Controller Staffing Status

In July 2024, the FAA transferred ATC oversight for the Newark area, known as Area C, to the Philadelphia TRACON (PHL). Presently, PHL's targeted staffing number remains 114 Certified Professional Controllers (CPCs); the current onboard number at PHL is 82, representing 71.9 percent of the staffing target. Within PHL, Area C's targeted staffing number is 46 CPCs, with its current staff of 22 CPCs representing 48 percent of the staffing target. Under an arrangement by the previous administration, by the end of July 2026, 14 CPCs currently assigned to Area C will return to the New York Terminal Radar Approach Control facility (N90), which had overseen the Newark area. ATO is taking action to replace those 14 CPCs. PHL now has a total of 31 trainees, with 26 assigned to Area C.

Delay Reduction Meeting

The FAA, on behalf of the Department of Transportation (DOT), convened a delay reduction meeting with U.S. air carrier participants with a minimum of 10 scheduled arrivals at EWR and representatives from PANYNJ on May 14, 2025, and the meeting continued until its recess on May 16, 2025. The FAA held individual sessions over the three days with seven air carriers and PANYNJ. In these sessions, the FAA and carriers discussed voluntary modifications to schedules during the construction period and through the rest of the Summer 2025 scheduling season. Representatives of the Department of Justice's Antitrust Division and the DOT monitored the joint and individual meeting sessions of the delay reduction meeting. In addition, the in-person sessions were transcribed.

Order Establishing Targeted Scheduling Limits

The June 2025 order resulted from the schedule reductions achieved by the delay reduction meetings. The June 2025 order reduced hourly operations through the end of the Summer 2025 scheduling season, October 25, 2025, and Saturdays from September 1, 2025, to December 31, 2025. This order took effect on June 10, 2025, and without the extension provided here, would have expired in part on October 25, 2025, and in full on December 31, 2025. The FAA established the order's December 31, 2025, expiration date to encompass the remainder of the Summer 2025 scheduling season and the completion of runway construction planned for EWR's Runway 4L-22R.

The June 2025 order limited operations at two separate rates depending on the date of the operation. During the construction period, the targeted limit is no more than 28 arrivals and 28 departures per hour. Outside of the construction period, until the close of the Summer 2025 scheduling season, October 25, 2025, the limit is no more than 34 arrivals and 34 departures per hour.

Notice of Request for Comment on Proposed Order Extension and Rate Increase

On August 12, 2025, the FAA published a Notice of Request for comment.¹³ The FAA announced a proposed extension of the June 2025 order for approximately one year, through October 24, 2026, and an increase in the daily operating limitations outside of the construction period. The FAA asked carriers operating at EWR to consider three allocation options to achieve a rate of 72 hourly operations, with 36 arrivals and departures respectively, up from the 68 hourly operations established by the June 2025 order. Option One was based on proportionality to the number of operations given up by each air carrier in the summer schedule to distribute the incremental operations for the Winter 2025/2026 season. Under this scenario, the FAA would apply equivalent reductions agreed upon in the Summer 2025 season to the approved Winter 2025/2026 baseline schedule to the extent practicable and then proportionately allocate the four new operations per hour up to the new 72 operations per hour cap, based on air carriers' prior reductions.

¹³ Operating Limitations at Newark Liberty International Airport, Request for Comment, 90 FR 38881 (August 12, 2025).

Option Two included a reverse weighted lottery to withdraw operations, using the approved Winter 2025/2026 baseline schedule with the objective of achieving an operational capacity of 72 operations per hour for the Winter 2025/2026 schedule. For the Summer 2026 schedule, the FAA would use the Summer 2025 schedule under the June order as the baseline and a weighted lottery to allocate the additional four operations per hour. The FAA asked for comments from carriers on how to structure such a lottery, including what baseline schedule should be used.

The final Option Three included convening a new round of delay reduction meetings pursuant to 49 U.S.C. 41722 to negotiate reductions. The FAA proposed either starting negotiations from the approved Winter 2025/2026 baseline schedule or rolling over the agreed-upon hourly reductions from the Summer 2025 season to the Winter 2025/2026 approved baseline schedule and utilizing the delay reduction meeting to reverse some of the negotiated reductions to achieve the new 72 operations per hour target.

III. Comments Regarding Allocation Method and Long-Term Options for EWR

By the close of the public comment period on August 15, 2025, the FAA received ten comments on the proposed extension and amendment to the order as well as the allocation methods. Commenters included United Airlines (United), Delta Air Lines (Delta), DHL, Alaska Airlines (Alaska), Air Canada, the Port Authority of New York and New Jersey (PANYNJ), Volaris Airlines, El Al Israel Airlines, Air Premia and one anonymous commenter. The comments generally indicated support for extending the operating limitations as a means to address congestion at EWR. Commenters requested transparency from the FAA irrespective of what allocation method is used to achieve the rate of 72 hourly operations.

United commended the Department for acknowledging and attempting to remediate the adverse effects of EWR controller staffing shortages, ATC relocation, and outdated and unreliable technology. United further pledged to work with the FAA and industry to improve operations and efficiency at EWR. United asked the FAA to consider limiting operations by 30-minute intervals instead of 60-minute intervals. United contends that this would make operations at EWR more precise, predictable, and efficient.

United also encouraged the FAA to publish the approved movements by carrier for the order to provide transparency to the reduction process. The airline further called on the FAA to retain the enforcement provisions found in the June 2025 order to prevent the backfilling of returned operations by other carriers, thereby eliminating reduction efforts.

Additionally, United suggested that the FAA consider setting operations for Summer 2026 at the targeted scheduling rate under normal conditions, 77 hourly operations, and establish criteria or improvement checkpoints that would allow for the FAA to increase the limit from 72 to 77 hourly operations by the start of Summer 2026. United also requested that the FAA re-include EWR under the Staffing-Related Relief waiver recently extended at JFK and LGA.¹⁴

¹⁴ See Staffing-Related Relief Concerning Operations at Ronald Reagan Washington National Airport, John F. Kennedy International Airport, and LaGuardia Airport, October 26, 2025, Through March 28, 2026 (Winter 2025/2026), and March 29, 2026, Through October 24, 2026 (Summer 2026), 90 FR 35360 (July 25, 2025).

With respect to the allocation method for the order extension, United supports the proportionality method proposed by the FAA. United believes this to be the simplest and fairest method and recognizes good citizenship on the part of the carriers who participated in the delay reduction meetings in May. According to United, the schedule from Summer 2025 can easily be used as a reduced baseline for the Summer 2026 allocation as it reflects approved operations after the delay reduction meetings. To that end, United requested that the FAA publish the final approvals for Summer 2025, by carrier, by hour. Since the Winter 2025/2026 baseline is not finalized, United recommends using the schedules submitted by air carriers in early May 2025 and approved by the FAA by the Seasonal Allocation Deadline in June 2025. United suggests that the FAA could then work with carriers, including cargo and foreign air carriers, one-on-one to identify the operational adjustments needed per carrier. United contends that the weighted lottery option is “needlessly complicated” and that another round of delay reduction meetings is overly burdensome and could undermine the progress made during the May sessions.

Lastly, United reiterated their support for transitioning EWR from a Level 2 to a Level 3 airport. United believes that this will improve the passenger experience at EWR through long-term, comprehensive, predictable, and transparent slot controls with equitable rules across EWR and JFK.

In light of the comments filed, the FAA has determined that it will extend a voluntary offer of up to ten percent relief at EWR through the end of Summer 2026 in addition to extending these operating limitations. The FAA welcomes voluntary returns by carriers beyond this effort to further the goal of efficiency and on-time performance at the airport. The terms of this relief are expanded upon in Section X of this document. Consistent with both the Level 2 schedule facilitation process and the delay reduction proceedings earlier this year, the FAA notified carriers individually of their approved movements.

Consideration of a return to Level 3 slot controls at EWR is beyond the scope of this final Order.

The FAA has determined that operating limitations by 30-minute intervals provides an appropriate level of detail to identify and assign schedule reduction targets to specific carriers.

Delta also supports the FAA's decision to extend the order through October 24, 2026, and amend the operating limitations to 72 hourly operations from 68 hourly operations currently established. Delta is not in favor of a weighted lottery and instead supports a proportional return of approved runway authorizations voluntarily relinquished as part of the June 2025 order. Delta also supports publication of the approved timings upon the finalization of the order.

The FAA acknowledges Delta's comments and participation in this process to establish new temporary scheduling limits. As discussed, FAA notified carriers individually of their approved movements, consistent with both the Level 2 schedule facilitation process and the delay reduction proceedings earlier this year.

Alaska also supports an increase in the number of hourly operations at EWR moving forward. Alaska expressed a preference for another round of delay reduction meetings on the basis of the statutory framework established by 49 U.S.C. 41722 and the collaborative nature of the proceedings. Additionally, Alaska indicated that the May delay reduction meetings allowed for an opportunity to provide the Department with insight into the nature of their operations at EWR and the impact certain reductions would have on their network. Alaska highlighted that their operations at EWR are long-haul, transcontinental round trips to West Coast markets that are constrained by the three-hour time difference between coasts. From a competition and market access perspective, Alaska stated that it provides an alternative option to larger U.S. carriers for customers purchasing transcontinental flights.

Upon consideration of all of the comments and available options, the FAA has determined that moving forward with a proportional reduction based on the reductions received during the delay reduction proceedings is the appropriate path forward at this time.

PANYNJ stated that it remains committed to partnering with the FAA in returning to full operational capacity. PANYNJ detailed the circumstances leading up to the FAA calling a delay reduction meeting and the subsequent telecommunications improvements made to ensure reliability and redundancy. Additionally, PANYNJ asked for more information from the FAA on the staffing pipeline for Area C. PANYNJ also outlined the improvements undertaken at EWR to enhance the airfield and improve efficiency throughout the airport's facilities. As such, PANYNJ emphasizes that capacity reductions hinder the ability of PANYNJ to maximize the utilization of the improvements made at EWR. With respect to the allocation method, PANYNJ requests that the FAA use a method that considers competition over proportionality. PANYNJ also expressed a commitment to participation in any additional delay reduction proceedings.

The FAA shares PANYNJ's goal of returning EWR to full capacity in the future and, in doing so, to address safety, efficiency, and other concerns as warranted.

Air Canada requested that the staffing waiver be put in place once again at EWR. As discussed in the response to United, the FAA will extend the staffing waiver to EWR through the end of the Summer 2026 scheduling season.

DHL asked that their only operation at EWR, CVG-EWR-CVG operated by 21Air, not be impacted by this reduction effort. At this time, the FAA is not seeking reductions from carriers with fewer than ten daily round trips at EWR.

Volaris Airlines asked that the FAA not reduce any of their approved operations at EWR. As with the original order, the FAA is not mandating reductions from foreign carriers as part of these proceedings.

El Al Israel Airlines (El Al) also supports a proportional reduction and suggested criteria for the FAA to consider under a weighted lottery allocation. El Al provided a number of suggestions for how the FAA could improve its collaboration with carriers including: increased communication with carriers such as convening meetings in advance of major events like the FIFA World Cup, implementing performance-based adjustments if conditions at EWR improve, and providing increased lead time on decisions to allow carriers to inform customers of itinerary changes well in advance, particularly where religious observance is impacted by a schedule change.

Air Premia requested to return to seven daily frequencies consistent with their pre-construction period schedule. Further, they cited an arrangement with the U.S. Department of Justice to operate seven frequencies due to anti-trust concerns raised by the Korean Air-Asiana Airlines merger. Air Premia stated that in December 2024, the Korean Air-Asiana Airlines merger was approved on the condition that Air Premia receive specific U.S. routes, which included New York. Air Premia stated that its expanded role helps prevent monopolistic control over transpacific routes and ensures continued consumer choice and competitive pricing, especially for the Incheon-New York route.

As previously mentioned, the FAA will not reduce operations on foreign carriers as part of these proceedings. The FAA will work with Air Premia to confirm their baseline operations outside of these proceedings.

An anonymous commenter supports the extension of the operating limitations to prevent potential airport congestion and delays for passengers traveling through EWR. The commenter further stated that the previous staffing shortages due to the pandemic are no longer an issue and the Newark airport should be able to maintain the operating limitations by extending the timeframe through 2026 to continue to ease flight delays.

The FAA acknowledges that staffing shortages remain an issue, but the FAA aims to make significant improvements in the staffing pipeline in 2026 which will allow EWR to increase operations. The FAA appreciates the comments received and has taken them under consideration.

IV. Allocation Method

After consideration of the comments received on the options, the FAA selects Option One to issue the allocations. As described above, allocations will be made proportionally based on carriers' operations at EWR.

In the Summer 2025 reductions achieved at the delay reduction meeting, the FAA focused on reducing arrivals and departures to no more than 34 operations of each per hour. Correspondingly, for Winter 2025/2026 and Summer 2026, the FAA will focus on reducing arrivals and departures to no more than 36 operations of each per hour.

The FAA will begin by carrying each carrier's reductions per hour from the Summer schedule, to the extent practicable, to the currently approved Winter schedules at EWR for Winter 2025/2026, and the approved Summer schedules at EWR in Summer 2026.

The FAA will work to ensure the targeted schedule for each carrier each hour will be proportional to their approved schedules for each individual season, taking into account that schedules may be different from one season to the next.

The FAA does not believe that a weighted lottery, Option Two, is the best path to achieve the necessary reductions at this time. The FAA appreciates those carriers who provided suggestions on criteria for this approach if this option would have been selected. Similarly, the FAA determined that another round of delay reduction meetings, Option Three, is overly burdensome and will likely achieve a similar result as the first round. The proportional allocation method will be based on the reductions achieved through the 49 U.S.C. 41722 process. These reductions were recently agreed upon by the carriers. As such, the FAA does not believe that another round of delay reduction meetings would be an efficient use of public resources when the FAA can leverage the results of the May meetings. The FAA believes that applying a proportional reduction to the Winter 2025/2026 and Summer 2026 schedules based on the delay reduction meetings in May is a reasonable and rational approach to effectuate this order extension and amendment. Further, Option One is a timely means to issue a decision in light of the comments

V. Hourly Targeted Scheduling Limitations

Under this order, outside of the construction period from October 26, 2025, through December 31, 2025, the daily scheduling limit is no more than 72 hourly operations, or 36 arrivals and departures each per hour. From January 1, 2026, through October 24, 2026, or the expiration date of this order, the daily scheduling limit is 72 hourly operations, or 36 arrivals and departures each per hour. Consistent with the June 2025 order, during the construction period, on weekends from September 1, 2025, through December 31, 2025, from Friday at 11:00 p.m. through 5:00 a.m. on Sunday, the scheduling limit is 56 hourly operations, or 28 arrivals and departures each per hour.

The FAA will continue to work with carriers to ensure more balanced operations within each 30-minute interval of each schedule-facilitated hour.

VI. Foreign Air Carriers

Prior to the issuance of this Order, the FAA notified all stakeholders, including foreign carriers, of proposed extension and amendment of the June 2025 order. The FAA will accept any returns from foreign carriers through the IATA process consistent with the delay reduction proceedings and the June 2025 order. The FAA will also work with all carriers, including foreign air carriers, as usual in responding to requests and confirming times that are available subject to the limits described above.

VII. Unscheduled Operations and New Scheduled Operations

The FAA will not accommodate new scheduled operations at EWR. Permitting new scheduled operations could exacerbate the existing conditions and undo the purpose of the delay reduction meeting and these operating limitations, which is to achieve operational stability at EWR.

The FAA will continue to accommodate other unscheduled operations, such as cargo, charter, or nonscheduled foreign carrier operations, on a “first come, first serve” basis to the extent such operators can be accommodated at EWR. All requests must be submitted to and approved by the FAA Slot Administration at 7-awa-slotadmin@faa.gov. In addition, these operations must also obtain approval from the EWR terminal to operate as appropriate. The FAA encourages operators to utilize nearby airports to access the region while this Order is in effect.

VIII. Additional Operational Modifications

Based on the FAA's experience with capacity-constrained airports, the FAA anticipates that carriers may occasionally need to modify their schedules for operational or other reasons while this Order is in effect. Accordingly, this Order provides a mechanism through which such carriers can modify their schedules.

Carriers operating at EWR must obtain the Administrator's written approval before making a schedule change to outside the hourly window associated with an authorized timing.

The FAA also recognizes that the Winter 2025/2026 schedule submission date was May 15, 2025. The FAA will continue to work with carriers to address schedules on Saturdays in the construction period in the Winter 2025/2026 Scheduling Season.

The FAA recognizes that there may be unexpected disruptions due to operation issues, weather, or other circumstances beyond the carriers' control. Since EWR is a Level 2 airport, the FAA will work with the carriers on any additional relief needed to prioritize impacted operations for the purposes of establishing operational baselines for the next corresponding season.

IX. National Environmental Policy Act

On June 4, 2025, the FAA prepared a categorical exclusion (CATEX) document applicable to the original order that is herein being extended. The CATEX relied upon FAA Order 1050.1F, Environmental Impacts: Policies and Procedures, paragraphs 5-6.5(j), 5-6.6(d), and 5-6.6(f).¹⁵ On July 1, 2025, Secretary of Transportation Sean P. Duffy signed Department of Transportation (DOT) Order 5610.1D. Paragraph 18 of DOT Order 5610.1D states that an Operating Administration (OA) such as the FAA “may rely on any pre-existing EIS, EA, or determination that a [CATEX] applies to a given project” if the actions are substantially the same. The FAA has determined that the extension of the currently effective order is substantially the same as the original order for purposes of compliance with the National Environmental Policy Act (NEPA), 42 U.S.C. 4321, et seq.

¹⁵ On June 30, 2025, the FAA issued an updated environmental order, FAA Order 1050.1G, FAA National Environmental Policy Act Implementing Procedures. However, the CATEX was prepared prior to the effective date of the new order. The CATEX categories referenced above are located in paragraphs B-2.5(j), B-2.6(d), and B-2.6(f) of the updated order.

X. Order

Accordingly, with respect to flight operations at EWR, under the authority provided to the Secretary of Transportation and the FAA Administrator by 49 U.S.C. 40101, 40103, 40113, and 41722, it is hereby ordered that:

1. This Order modifies the targeted scheduling limit for arrivals and departures at EWR during the affected hours for the U.S. air carriers who operate at EWR as reflected by authorized scheduled timings. The FAA will not accommodate authorized scheduled timings under this Order to any person or entity other than a certificated U.S. air carrier with appropriate economic authority and the FAA operating authority under 14 CFR part 121, 129, or 135 (`revised allocations based upon proportionality to air carriers that contributed timings during delay reduction meetings'). This Order further affirms that the FAA will not accommodate new requests or re-timings into schedule-facilitated hours with 36 arrivals and 36 departures if such a request will result in exceeding the hourly limit (`no backfills'). Finally, the FAA will accommodate foreign air carrier requests and unscheduled operations in certain hours with availability throughout the schedule-facilitated day, on a “first come, first serve” basis. All requests must be submitted to and approved by the FAA Slot Administration at 7-awa-slotadmin@faa.gov. The FAA Vice President, System Operations Services, is the final decision-maker for determinations under this paragraph. The provisions in paragraphs 2 through 11 below apply to the following:

a. All U.S. air carriers conducting scheduled operations at EWR as of the date of this Order, any U.S. air carrier that operates under the same designator code as such carrier, and any air carrier that has or enters into a codeshare agreement with such carrier.

b. All U.S. air carriers operating scheduled or regularly conducted commercial service to EWR while this Order is in effect.

2. This Order establishes daily targeted scheduled arrivals and departures at EWR from 6 a.m. through 10:59 p.m., Eastern Time, until October 24, 2026, and on weekends from October 26, 2025, through December 31, 2025, from Friday at 11 p.m. through 5 a.m. on Sunday.

3. This Order takes effect on October 26, 2025, and expires on October 24, 2026.

4. The following procedures apply to authorized scheduled timings at EWR:

a. Scheduled air carrier arrivals and departures should not exceed 28 per hour on weekends from September 1, 2025, through December 31, 2025, from Friday at 11 p.m. through 5 a.m. on Sunday, Eastern Time. Outside of that period, from October 26, 2025, through October 24, 2026, arrivals and departures should not exceed 36 per hour, respectively, aside from the Saturdays designated as part of the construction period when the lower targeted rate applies.

b. The Administrator may change the operating limits if he determines that capacity exists to accommodate additional operations without a significant increase in delays. If delays substantially increase due to circumstances adversely impacting operations, the Administrator may further reduce the operating limitations.

5. Carriers will retain historic priority for the next corresponding season for authorized scheduled timings reduced or re-timed under the delay reduction proceedings.

6. A carrier operating an authorized scheduled timing may request the Administrator's approval to move any arrival or departure scheduled from 6 a.m. through 10:59 p.m. to another half hour within that period. Except as provided in paragraph seven, the carrier must receive the written approval of the Administrator, or his delegate, prior to conducting any scheduled arrival or departure. All requests to move an authorized scheduled timing must be submitted to the FAA Slot Administration Office at 7-AWA-Slotadmin@faa.gov and must come from a designated representative of the carrier.

7. Notice of a swap must be submitted in writing to the FAA Slot Administration Office at 7-AWA-Slotadmin@faa.gov and must come from a designated representative of each carrier. The FAA must confirm and approve these exchanges in writing prior to the effective date of the exchange.

8. Any authorized scheduled timing not used during the Winter 2025/2026 or Summer 2026 scheduling seasons will not be prioritized for the purposes of establishing an operational baseline for the next corresponding season unless the carrier notifies the FAA of a request for prioritization. The FAA will review these requests. The FAA will respond to the carrier with an acknowledgement of the request and a determination.

9. If the FAA determines that a further reduction in targeted scheduled operations is needed, the FAA may call an additional scheduling reduction meeting pursuant to 49 U.S.C. 41722.

10. Carriers may voluntarily return up to ten percent of their operations for the Winter 2025/2026 and the Summer 2026 scheduling seasons in addition to the reductions assigned under the Order. This relief includes operations between EWR and DCA. Carriers requesting this relief must submit returned operations to the FAA Slot Administration Office at 7-AWA-Slotadmin@faa.gov. Returned operations will be treated as operated for the purposes of establishing an operational baseline for the next corresponding season. The FAA may reallocate these operations on a non-historic basis for the duration of this voluntary relief so long as the reallocation does not exceed the hourly operating limitation. This relief is not available for any DCA slots granted by the DOT pursuant to section 505 of the FAA Reauthorization Act of 2024 (Pub. L. 118-63).

11. The FAA may enforce this Order through an enforcement action seeking a civil penalty under 49 U.S.C. 46301(a). A carrier that is not a small business as defined in the Small Business Act, 15 U.S.C. 632, will be liable for a civil penalty of up to $75,000 for every flight it operates above the limits set forth in this Order. A carrier that is a small business as defined in the Small Business Act will be liable for a civil penalty of up to $16,630 for every flight it operates above the limits set forth in this Order. The FAA also could file a civil action in U.S. District Court, under 49 U.S.C. 46106, 46107, seeking to enjoin any air carrier from violating the terms of this Order.

12. The FAA may modify or withdraw any provision in this Order on its own or on application by any carrier for good cause shown.

Issued in Washington, DC, on September 25, 2025.
William H.W. McKenna,
Chief Counsel.
Bryan Bedford,
Administrator.

[FR Doc. 2025-18871 Filed 9-25-25; 4:15 pm]

BILLING CODE 4910-13-P